DEPARTMENT OF VETERANS AFFAIRS

Advisory Committee on Women Veterans; Notice of Meeting

The Department of Veterans Affairs (VA) gives notice under Public Law 92-463 (Federal Advisory Committee Act) that the Advisory Committee on Women Veterans will conduct a site visit on July 27-30, 2010, in the fourth floor auditorium at the Washington DC VA Medical Center (VAMC), 50 Irving Street, NW., Washington, DC, and in Room 542, at the Veterans Benefits Administration (VBA), 1800 G Street, NW., Washington, DC. The Committee will also participate in the Women Veterans' Forum at the Women in Military Service for America, at Arlington National Cemetery, Washington, DC. The meeting is open to the public. Those wishing to attend must have proper identification to enter the Federal facilities. Participation in the Women Veterans' Forum is by registration only.

The purpose of the Committee is to advise the Secretary of Veterans Affairs regarding the needs of women Veterans with respect to health care, rehabilitation, compensation, outreach, and other programs and activities administered by VA designed to meet such needs. The Committee makes recommendations to the Secretary regarding such programs and activities.

On July 27, the Committee will meet at the Veterans Benefits Administration Office and receive briefings focusing on claims processing, the appeals process, benefits outreach and assistance, and the function of the Board of Veterans Appeals. The meeting will begin at 9 a.m. and will end at 3 p.m. On July 28, the Committee will participate in the Women Veterans' Forum. On July 29-30, the Committee will convene at the Washington DC VA Medical Center and receive briefings on services available for women Veterans residing in Veterans Integrated Service Network (VISN) 5, and will include comments from VISN and VAMC leadership. The meeting will begin at 8:30 a.m. and will end at 4:30 p.m.

Any member of the public wishing to attend should contact Ms. Shannon L. Middleton at the Department of Veterans Affairs, Center for Women Veterans (00W), 810 Vermont Avenue, NW., Washington, DC 20420, or by phone at (202) 461-6193, or fax at (202) 273-7092, or e-mail at 00W@mail.va.gov. Members of the press planning to attend the briefings at the VAMC should notify Michelle Spivak, Director, Public Relations and Public Affairs, at (202) 745-4037. Members of the press planning to attend briefings at VBA should contact Laurie Tranter, Public Affairs Officer, at (202) 461-7551. No time will be allocated for receiving oral comments from the public. However, interested persons may file statements with the Committee before the meeting, or within 10 days after the meeting. Comments should be sent to Ms. Middleton.

Dated: July 2, 2010.
By Direction of the Secretary.
Vivian Drake,
Acting Committee Management Officer.

[FR Doc. 2010-16703 Filed 7-8-10; 8:45 am]

BILLING CODE P